DEPARTMENT OF HEALTH AND HUMAN SERVICES

Substance Abuse and Mental Health Services Administration

Center for Substance Abuse Treatment; Notice of Meeting

Pursuant to Public Law 92-463, notice is hereby given of a Teleconference Meeting of the Center for Substance Abuse Treatment (CSAT) National Advisory Council to be held August 15, 2005.

The meeting will include the review, discussion and evaluation of grant applications reviewed by Initial Review Groups. Therefore, the meeting will be closed to the public as determined by the SAMHSA Administrator, in accordance with Title 5 U.S.C. 552b(c)(6) and 5 U.S.C. App. 2, 10(d).

Substantive program information and a roster of Council members may be obtained by accessing the SAMHSA Advisory Council Web site (http://www.samhsa.gov) as soon as possible after the meeting, or by communicating with the contact whose name and telephone number are listed below.

Committee Name: Substance Abuse and Mental Health Services Administration, Center for Substance Abuse Treatment National Advisory Council.

Meeting Date: August 15, 2005.

Place: 1 Choke Cherry Road, 5th Floor Conference Room, Rockville, MD 20857.

Type: Closed: August 15, 2005-11 a.m.-12 p.m.

Contact: Cynthia Graham, M.S., NAC Executive Secretary, SAMHSA/CSAT National Advisory Council, 1 Choke Cherry Road, Room 5-1036, Rockville, MD 20857. Telephone: (240) 276-1692. FAX: (240) 276-1690. E-mail: cynthia.graham@samhsa.hhs.gov.

This notice is being published less than 15 days prior to the meeting due to the urgent need to meet timing limitations imposed by the Department and the review and funding cycle.

Dated: August 10, 2005.
Toian Vaughn,
Committee Management Officer, Substance Abuse and Mental Health, Services Administration.

[FR Doc. 05-16164 Filed 8-12-05; 8:45 am]

BILLING CODE 4162-20-P